DEPARTMENT OF AGRICULTURE

Rural Utilities Service

Information Collection Activity; Comment Request

AGENCY: Rural Utilities Service, USDA.

ACTION: Notice and request for comments.

SUMMARY: In accordance with the Paperwork Reduction Act of 1995, the Rural Utilities Service (RUS) invites comments on this information collection for which RUS intends to request approval from the Office of Management and Budget (OMB).

DATES: Comments on this notice must be received by November 20, 2017.

FOR FURTHER INFORMATION CONTACT: Thomas Dickson, Acting Director, Program Development and Regulatory Analysis, Rural Utilities Service, USDA, 1400 Independence Avenue SW., STOP 1522, Room 5164-South Building, Washington, DC 20250-1522. Telephone: (202) 690-4492. Fax: (202) 720-8435 or email Thomas.Dickson@wdc.usda.gov.

SUPPLEMENTARY INFORMATION: The Office of Management and Budget's (OMB) regulation (5 CFR part 1320) implementing provisions of the Paperwork Reduction Act of 1995 (Pub. L. 104-13) requires that interested members of the public and affected agencies have an opportunity to comment on information collection and recordkeeping activities (see 5 CFR 1320.8(d)). This notice identifies an information collection that RUS is submitting to OMB for extension.

Comments are invited on: (a) Whether the proposed collection of information is necessary for the proper performance of the functions of the Agency, including whether the information will have practical utility; (b) the accuracy of the Agency's estimate of the burden of the collection including the validity of the methodology and assumptions used; (c) ways to enhance the quality, utility, and clarity of the information to be collected; and (d) ways to minimize the burden of the collection of information on those who are to respond, including through the use of appropriate automated, electronic, mechanical, or other technological collection techniques or other forms of information technology. Comments may be sent to: Thomas Dickson, Acting Director, Program Development and Regulatory Analysis, Rural Utilities Service, U.S. Department of Agriculture, Stop 1522, 1400 Independence Avenue SW., Washington, DC 20250-1522. Telephone: (202) 690-4493, Fax: (202) 720-8435. Email: Thomas.Dickson@wdc.usda.gov.

Title: RUS Electric Loan Application and Related Reporting.

OMB Control Number: 0572-0032.

Type of Request: Extension of an existing information collection.

Abstract: The Rural Utilities Service (RUS) was established in 1994 by the Federal Crop Insurance Reform and Department of Agriculture Reorganization Act of 1994 (Pub. L. 103-354, 108 Stat. 3178, 7 U.S.C. 6941 et. seq.) as successor to the Rural Electrification Administration (REA) with respect to certain programs, including the electric loan and loan guarantee program authorized under the Rural Electrification Act of 1936 (7 U.S.C. 901 et seq., as amended) (RE Act).

The RE Act authorizes and empowers the Administrator of RUS to make and guarantee loans to furnish and improve electric service in rural areas. These loans are amortized over a period of up to 35 years and secured by the borrower's electric assets and/or revenue. In the interest of protecting loan security, monitoring compliance with debt covenants, and ensuring that RUS loan funds are used for purposes authorized by law, RUS requires that borrowers prepare and submit for RUS evaluation certain studies and reports. Some of these studies and reports are required only once for each loan application; others must be submitted periodically until the loan is completely repaid. These forms and documents serve as support for electric loan applications and summarizes the types and estimated costs of facilities and equipment for which RUS financing is being requested.

The RE Act also authorizes and empowers the Administrator of RUS to make or cause to be made, studies, investigations, and reports concerning the condition and progress of the electrification of the several States and Territories; and to publish and disseminate information with respect thereto. Information supplied by borrowers forms the basis of many of these reports.

In the past two years, RUS has implemented an application intake system called RDApply that allows applicants to create an online application for RUS loans and grants as well upload attachments, sign certifications, and draw service areas, to name a few features. RDApply streamlines the application process, as well as provides identity security, reduces paper consumption and is expected to reduce the burden associated with this information collection package over time.

Estimate of Burden: Public reporting burden for this collection of information is estimated to average 16.10 hours per response.

Respondents: Not for profit organizations, business or other for profit.

Estimated Number of Respondents: 625.

Estimated Number of Responses per Respondent: 5.19.

Estimated Annual Responses: 3245.

Estimated Total Annual Burden on Respondents: 52,239 hours.

Copies of this information collection, and related forms and instructions, can be obtained from MaryPat Daskal, Program Development and Regulatory Analysis, at (202) 720-7853. All responses to this notice will be summarized and included in the request for OMB approval. All comments will also become a matter of public record.

Dated: September 13, 2017.
Christopher A. McLean,
Acting Administrator, Rural Utilities Service.

[FR Doc. 2017-20157 Filed 9-20-17; 8:45 am]

BILLING CODE 3410-15-P